DEPARTMENT OF ENERGY

Federal Energy Regulatory Commission

Notice of Petition for Enforcement

In the matter of: EL12-108-000, QF11-46-001, QF11-47-001, QF11-48-001; Murphy Flat Energy LLC, Murphy Flat Mesa LLC, Murphy Flat Wind LLC.

Take notice that on September 25, 2012, pursuant to section 210(h)(2) of the Public Utility Regulatory Policies Act of 1978 (PURPA),¹ Murphy Flat Energy LLC, Murphy Flat Mesa LLC, and Murphy Flat Wind LLC (collectively Petitioners), filed a petition requesting the Federal Energy Regulatory Commission take enforcement action under section 210(h) of PURPA against the Idaho Public Utilities Commission (Idaho PUC) to overturn the Idaho PUC's Murphy Flat Order ² and declare that legally enforceable obligations did arise, as more fully described in the petition.

¹ 16 U.S.C. 824a-3(h).

² Idaho PUC Order No. 32255, Case No. IPC-E-10-56 et al. (June 8, 2011) (“Murphy Flat Order”).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: 5 p.m. Eastern Time on October 15, 2012.

Dated: September 26, 2012.
Kimberly D. Bose,
Secretary.

[FR Doc. 2012-24361 Filed 10-2-12; 8:45 am]

BILLING CODE 6717-01-P